DEPARTMENT OF ENERGY

Federal Energy Regulatory Commission

[Docket No. EL07-71-000]

NSTAR Electric Company; Notice of Institution of Proceeding and Refund Effective Date

July 12, 2007.

On July 9, 2007, the Commission issued an order that instituted a proceeding in the above-referenced docket, pursuant to section 206 of the Federal Power Act (FPA) 16 U.S.C. 824e, concerning the justness and reasonableness of NSTAR Electric Company's proposed rate decrease.

The refund effective date in the above-docketed proceeding, established pursuant to section 206(b) of the FPA, will be the date of publication of this notice in the Federal Register.

Kimberly D. Bose,
Secretary.

[FR Doc. E7-13970 Filed 7-18-07; 8:45 am]

BILLING CODE 6717-01-P